DEPARTMENT OF HEALTH AND HUMAN SERVICES

National Institutes of Health

Center for Scientific Review; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: Center for Scientific Review Special Emphasis Panel ZRG1 SSS O (11).

Date: July 22, 2002.

Time: 8 a.m. to 11 a.m.

Agenda: to review and evaluate grant applications.

Place: Holiday Inn Georgetown, 2101 Wisconsin Avenue, Washington, D.C., 2007.

Contact Person: Chhanda L. Ganguly, PhD, Scientific Review Administrator, Center for Scientific Review, National Institutes of Health, 6701 Rockledge Drive, Room 5156, MSC 7842, Bethesda, MD 20892, (301) 435-1739, gangulyc@csr.nih.gov.

Name of Committee: Center for Scientific Review Special Emphasis Panel ZRG1 SSS F (02) Sensor Development and Validation (RFA EB-02-002)

Date: July 22-23, 2002.

Time: 8 a.m. to 5 p.m.

Agenda: To review and evaluate grant applications.

Place: Monarch Hotel, 2400 M Street, N.W., Washington, DC 20037.

Contact Person: Marjam G. Behar, PhD, Scientific Review Administrator, Center for Scientific Review, National Institutes of Health, 6701 Rockledge Drive, MSC 7812, Bethesda, MD 20892, 610-825-0349, mgbehar@aol.com.

Name of Committee: Center for Scientific Review Special Emphasis Panel ARG1 SSS X (30) Bioengineering

Date: July 22-23, 2002.

Time: 8 a.m. to 4 p.m.

Agenda: to review and evaluate grant applications.

Place: Holiday Inn, 8120 Wisconsin Avenue, Bethesda, MD 20814.

Contact Person: Lee Rosen, PhD, Scientific Review Administrator, Center for Scientific Review, National Institutes of Health, 6701 Rockledge Drive, Room 5116, MSC 7854, Bethesda, MD 20892, (301) 435-1171.

Name of Committee: AIDS and Related Research Integrated Review Group AIDS and Related Research 6

Date: July 22-23, 2002.

Time: 8 a.m. to 11 a.m.

Agenda: To review and evaluate grant applications and/or proposals.

Place: Hilton Washington Embassy Row, 2015 Massachusetts Avenue NW., Washington, DC 20036.

Contact Person: Ranga V. Srinivas, PhD, Scientific Review, Administrator, Center for Scientific Review, National Institutes of Health, 6701 Rockledge Drive, Room 5108, MSC 7852, Bethesda, MD 20892, (301) 435-1167, srinivar@csr.nih.gov.

Name of Committee: Center for Scientific Review Special Emphasis Panel AARR-7 (02) Member Conflict Applications

Date: July 22, 2002.

Time: 8:30 a.m. to 9:59 a.m.

Agenda: To review and evaluate grant applications.

Place: Sheraton Bal Harbour Hotel, 9701 Collins Avenue, Bal Harbour, FL 33154.

Contact Person: Angela M. Pattatucci-Aragon, PhD, Scientific Review Administrator, Center for Scientific Review, National Institutes of Health, 6701 Rockledge Drive, Room 5220, MSC 7852, Bethesda, MD 20892, (301) 435-1775.

Name of Committee: Center for Scientific Review Special Emphasis Panel ZRG1 SSS-4 (01) Shared Instrumentation Grants-Surface Plasmon Resonance Instruments

Date: July 22, 2002.

Time: 8:30 a.m. to 1 p.m.

Agenda: To review and evaluate grant applications.

Place: The River Inn, 924 25th St N.W., Washington, DC 20037.

Contact Person: Stephen M. Nigida, PhD, Scientific Review Administrator, Center for Scientific Review, National Institutes of Health, 6701 Rockledge Drive, Room 4112, MSC 7812, Bethesda, MD 20892, (301) 435-3565.

Name of Committee: Center for Scientific Review Special Emphasis Panel ZRG1 AARR-7 (03) Sexual Risk Assessment

Date: July 22, 2002.

Time: 10 a.m. to 10:29 a.m.

Agenda: To review and evaluate grant applications.

Place: Sheraton Bal Harbour Hotel, 9701 Collins Avenue, Bal Harbour, FL 33514.

Contact Person: Angela M. Pattatucci-Aragon, PhD, Scientific Review Administrator, Center for Scientific Review, National Institutes of Health, 6701 Rockledge Drive, Room 5220, MSC 7852, Bethesda, MD 20892, (301) 435-1775.

Name of Committee: Center for Scientific Review Special Emphasis Panel ZRG! AARR-& (01)

Date: July 22-24, 2002.

Time: 10:30 a.m. to 3:30 p.m.

Agenda: To review and evaluate grant applications.

Place: Sheraton Bal Harbour Hotel, 9701 Collins Avenue, Bal Harbour, FL 33154.

Contact Person: Angela M Pattatucci-Aragon, PhD, Scientific Review Administrator, Center for Scientific Review, National Institutes of Health, 6701 Rockledge Drive, Room 5220, MSC 7852, Bethesda, MD 20892, (301) 435-1775.

Name of Committee: Center for Scientific Review Special Emphasis Panel ZRG1 SSS 0 (10)

Date: July 22, 2002.

Time: 11 a.m. to 4 p.m.

Agenda: To review and evaluate grant applications.

Place: Holiday Inn Georgetown, 2101 Wisconsin Avenue, Washington, DC 20007.

Contact Persons: Chhanda L. Ganguly, PhD, Scientific Review Administrator, Center for Scientific Review, National Institutes of Health, 6701 Rockledge Drive, Room 5156, MSC 7842, Bethesda, MD 20892, (301) 435-1739, gangulyc@csr.nih.gov.

Name of Committee: Center for Scientific Review Special Emphasis Panel ZRG1 PTHB 04 M

Date: July 22, 2002.

Time: 1 p.m. to 3 p.m.

Agenda: To review and evaluate grant applications.

Place: NIH, Rockledge 2, Bethesda, MD 20892, (Telephone Conference Call).

Contact Person: Martin L. Padarathsingh, PhD, Scientific Review Administrator, Center for Scientific Review, National Institutes of Health, 6701 Rockledge Drive, Room 4146, MSC 7804, Bethesda, MD 20892, (301) 435-1717.

Name of Committee: Center for Scientific Review Special Emphasis Panel ZRG1 CAMP (04) Colon and Liver Carcinogenesis

Date: July 22, 2002.

Time: 1:30 p.m. to 3 p.m.

Agenda: To review and evaluate grant applications.

Place: NIH, Rockledge 2, Bethesda, MD 20892, (Telephone Conference Call).

Contact Person: Elaine Sierra-Rivera, PhD, Scientific Review Administrator, Center for Scientific Review, National Institutes of Health, 6701 Rockledge Drive, Room 4136, MSC 7804, Bethesda, MD 20892, 301-435-1779, riverse@csr.nih.gov.

Name of Committee: Center for Scientific Review Special Emphasis Panel ZRG1 BBBP-2, (10) Developmental Disabilities, Communications, and Science Education

Date: July 22-23, 2002.

Time: 9 p.m. to 5 p.m.

Agenda: To review and evaluate grant applications.

Place: Embassy Suites, Chevy Chase Pavilion, 4300 Military Rd., Wisconsin at Western Ave., Washington, DC 20015.

Contact Person: Thomas A. Tatham, PhD, Scientific review Administrator, Center for Scientific Review, National Institutes of Health, 6701 Rockledge Drive, Room 3114, MSC 7848, Bethesda, MD 20892, (301) 594-6836, tathamt@csr.nih.gov.

Name of Committee: Center for Scientific Review Special Emphasis Panel ZRG1 SSS O (12)

Date: July 23, 2002.

Time: 8 a.m. to 4 p.m.

Agenda: To review and evaluate grant applications.

Place: Holiday Inn Georgetown, 2101 Wisconsin Avenue, Washington, DC, 20007.

Contact Person: Chhanda L. Ganguly, PhD, Scientific Review Administrator, Center for Scientific Review, National Institutes of Health, 6701 Rockledge Drive, Room 5156, MSC 7842, Bethesda, MD 20892, (301) 435-1739, gangulyc@csr.nih.gov.

Name of Committee: Center for Scientific Review and Special Emphasis Panel BBBP-2 SBIR member conflict reviews in Developmental Disabilities

Date: July 23, 2002.

Time: 9 a.m. to 10 a.m.

Agenda: To review and evaluate grant applications.

Place: Embassy Suites, Chevy Chase Pavilion, 4300 Military Rd., Wisconsin at Western Ave., Washington, DC 20015.

Contact Person: Luci Roberts, PhD, Scientific Review Administrator, Center for Scientific Review, National Institutes of Health, 6701 Rockledge Drive, Room 3188, MSC 7848, Bethesda, MD 20892, (301) 435-0692.

Name of Committee: Center for Scientific Review Special Emphasis Panel ZRG1 SSS-1 (01) M: Member Conflict: Cellular Proliferation and Repair

Date: July 23, 2002.

Time: 1 p.m. to 2 p.m.

Agenda: To review and evaluate grant applications.

Place: NIH, Rockledge 2, Bethesda, MD 20892, (Telephone Conference Call).

Contact Person: Shen K. Yang, PhD, Scientific Review Administrator, Center for Scientific Review, National Institutes of Health, 6701 Rockledge Drive, Room 4138, MSC 7804, Bethesda, MD 20892, (301) 435-1213, yangsh@csr.nih.gov.

Name of Committee: Center for Scientific Review Special Emphasis Panel CAMP (03) DNA Damage and Repair in Oncogenesis

Date: July 23, 2002.

Time: 2 p.m. to 3:30 p.m.

Agenda: To review and evaluate grant applications.

Place: NIH, Rockledge 2, Bethesda, MD 20892, (Telephone Conference Call).

Contact Person: Elaine Sierra-Rivera, PhD, Scientific Review Administrator, Center for Scientific Review, National Institutes of Health, 6701 Rockledge Drive, Room 4136, MSC 7804, Bethesda, MD 20892, (301) 435-1779, riverse@csr.nih.gov.

Name of Committee: Center for Scientific Review Special Emphasis Panel ZRG1 AARR-6 (51) SEP to review RFA DK-02-006

Date: July 23-24, 2002.

Time: 12:30 p.m. to 3:30 p.m.

Agenda: To review and evaluate grant applications.

Place: Hilton Washington Embassy Row, 2015 Massachusetts Avenue NW., Washington, DC 20036.

Contact Person: Ranga V. Srinivas, PhD, Scientific Review Administrator, Center for Scientific Review, National Institutes of Health, 6701 Rockledge Drive, Room 5108, MSC 7852, Bethesda, MD 20892, (301) 435-1167, srinivar@csr.nih.gov.

Name of Committee: Center for Scientific Review Special Emphasis Panel ZRG1 BBBP-4 (03) Member Conflict: Attention Deficit Hyperactivity Disorder

Date: July 24, 2002.

Time: 10:30 a.m. to 11:30 a.m.

Agenda: To review and evaluate grant applications.

Place: NIH, Rockledge 2, Bethesda, MD 20892, (Telephone Conference Call).

Contact Person: Cheri Wiggs, PhD, Scientific Review Administrator, Center for Scientific Review, National Institutes of Health, 6701 Rockledge Drive, Room 3180, MSC 7848, Bethesda, MD 20892, (301) 435-1261.

Name of Committee: Center for Scientific Review Special Emphasis Panel ZRG1 CVA (01) BRP: 3D Imaging

Date: July 24, 2002.

Time: 11 a.m. to 12:30 p.m.

Agenda: To review and evaluate grant applications.

Place: NIH, Rockledge 2, Bethesda, MD 20892, (Telephone Conference Call).

Contact Person: Gordon L. Johnson, PhD, Scientific Review Administrator, Center for Scientific Review, National Institutes of Health, 6701 Rockledge Drive, Room 4136, MSC 7802, Bethesda, MD 20892, (301) 435-1212.

Name of Committee: Center for Scientific Review Special Emphasis Panel ZRG1 SSS-6(11)

Date: July 24, 2002.

Time: 11 a.m. to 1 p.m.

Agenda: To review and evaluate grant applications.

Place: NIH, Rockledge 2, Bethesda, MD 20892, (Telephone Conference Call).

Contact Person: John L. Bowers, PhD, Scientific Review Administrator, Center for Scientific Review, National Institutes of Health, 6701 Rockledge Drive, Room 4168, MSC 7806, Bethesda, MD 20892, (301) 435-1725.

Name of Committee: Center for Scientific Review Special Emphasis Panel ZRG1-IFCN-5-03: Member Conflict Panel: Visual and Vestibular Systems

Date: July 24, 2002.

Time: 1 p.m. to 3 p.m.

Agenda: To review and evaluate grant applications.

Place: NIH, Rockledge 2, Bethesda, MD 20892, (Telephone Conference Call).

Contact Person: John Bishop, PhD, Scientific Review Administrator, Center for Scientific Review, National Institutes of Health, 6701 Rockledge Drive, Room 5180, MSC 7844, Bethesda, MD 20892, (301) 435-1250.

Name of Committee: Center for Scientific Review Special Emphasis Panel ZRG1 IFCN1 (04) Behavioral Neuroendocrinology

Date: July 24, 2002.

Time: 2 p.m. to 5 p.m.

Agenda: To review and evaluate grant applications.

Place: NIH, Rockledge 2, Bethesda, MD 20892, (Telephone Conference Call).

Contact Person: Gamil C. Debbas, PhD, Scientific Review Administrator, Center for Scientific Review, National Institutes of Health, 6701 Rockledge Drive, Room 5170, MSC 7844, Bethesda, MD 20892, (301) 435-1247, eskayr@csr.nih.gov.

Name of Committee: Center for Scientific Review Special Emphasis Panel ZRG1-CDF-5-01: Nitric Oxide/apoptosis

Date: July 24, 2002.

Time: 3:30 p.m. to 5 p.m.

Agenda: To review and evaluate grant applications.

Place: NIH, Rockledge 2, Bethesda, MD 20892, (Telephone Conference Call).

Contact Person: Sherry L. Dupere, PhD, Scientific Review Administrator, Center for Scientific Review, National Institutes of Health, 6701 Rockledge Drive, Room 5136, MSC 7840, Bethesda, MD 20892, (301) 435-1021, duperes@csr.nih.gov.

(Catalogue of Federal Domestic Assistance Program Nos. 93.306, Comparative Medicine, 93.306; 93.333, Clinical Research, 93.333, 93.337, 93.393-93.396, 93.837-93.844, 93.846-93.878, 93.892, 93.893, National Institutes of Health, HHS)

Dated: June 24, 2002.
Anna Snouffer,
Deputy Director, Office of Federal Advisory Committee Policy.

[FR Doc. 02-16443 Filed 6-28-02; 8:45 am]

BILLING CODE 4140-01-M